DEPARTMENT OF THE INTERIOR

Bureau of Land Management

[ES-960-1910-BJ-4377] ES-50669, Group 163, Wisconsin]

Notice of Filing of Plat Survey; Wisconsin

The plat of the dependent resurvey of a portion of the east and north boundaries, and a portion of the subdivisional lines, Township 51 North, Range 4 West, 4th Principal Meridian, Wisconsin, will be officially filed in Eastern States, Springfield, Virginia at 7:30 a.m., on June 12, 2000.

The survey was requested by the Bureau of Indian Affairs.

All inquiries or protests concerning the technical aspects of the survey must be sent to the Chief Cadastral Surveyor, Eastern States, Bureau of Land Management, 7450 Boston Boulevard, Springfield, Virginia 22153, prior to 7:30 a.m., June 12, 2000.

Copies of the plat will be made available upon request and prepayment of the appropriate fee.

Dated: April 27, 2000.
Stephen G. Kopach,
Chief Cadastral Surveyor.

[FR Doc. 00-11851 Filed 5-10-00; 8:45 am]

BILLING CODE 4310-GJ-P